DEPARTMENT OF THE INTERIOR

National Park Service

[NPS-IMR-PETR-34690; PS.SIMLA0106.00.1]

Minor Boundary Revision at Petroglyph National Monument

AGENCY: National Park Service, Interior.

ACTION: Notification of boundary revision.

SUMMARY: The boundary of Petroglyph National Monument is modified to exclude four parcels of land from the monument boundary which contain private homes and property, totaling 8.37 acres and to include two parcels of land containing 3.78 acres, located in Bernalillo County, New Mexico. Upon publication of the Notice, the National Park Service will accept, by donation, a perpetual easement (3.47 acres) from Albuquerque Public Schools (APS). The other tract to be included in the boundary (0.31 acres) is already federally owned.

DATES: The effective date of this boundary revision is January 23, 2023.

ADDRESSES: The map depicting this boundary revision is available for inspection at the following locations: National Park Service, Interior Regions 6, 7, & 8, Land Resources Program Center, 12795 West Alameda Parkway, Denver, Colorado 80228 and National Park Service, Department of the Interior, 1849 C Street NW, Washington, DC 20240.

FOR FURTHER INFORMATION CONTACT: Regional Realty Officer William Morgan, National Park Service, Interior Regions 6, 7, & 8 Land Resources Program Center, 12795 West Alameda Parkway, Denver, Colorado 80228, telephone (303) 969-2610, william_morgan@nps.gov.

SUPPLEMENTARY INFORMATION: Notice is hereby given that, pursuant to Public Law 101-313, the boundary of Petroglyph National Monument is modified to exclude four (4) tracts totaling 8.37 acres of land and expanded to include two tracts (2) totaling approximately 3.78 acres of adjacent unimproved land. The boundary revision is depicted on Map No. 354/179645, dated September 2022.

Public Law 101-313 section 102(c) authorizes minor revisions of the boundary, after completion of the general management plan for the monument, by publishing a revised map or other boundary description in the Federal Register. The general management plan for Petroglyph National Monument was completed in 1996. This boundary revision will ensure the preservation and protection of the Monument's historic and cultural landscape resources and provide public access into the Petroglyph National Monument.

Katharine Hammond,
Regional Director (Acting), Interior Regions 6, 7, & 8.

[FR Doc. 2023-01106 Filed 1-20-23; 8:45 am]

BILLING CODE 4312-52-P